FEDERAL COMMUNICATIONS COMMISSION

47 CFR Part 73

[MM Docket No. 00-8; RM-9788]

Radio Broadcasting Services; Spencer and Webster, MA

AGENCY: Federal Communications Commission.

ACTION: Final rule.

SUMMARY: At the request of Montachusett Broadcasting, Inc. this document reallots Channel 255A from Spencer to Webster, Massachusetts, and modifies the license of Station WORC-FM to specify Webster as the community of license. See 65 FR 4491, published January 27, 2000. The reference coordinates for Channel 255A at Webster, Massachusetts, are 42-02-10 and 71-59-23. With this action, the proceeding is terminated.

EFFECTIVE DATE: May 16, 2000.

FOR FURTHER INFORMATION CONTACT: Robert Hayne, Mass Media Bureau (202) 418-2177.

SUPPLEMENTARY INFORMATION: This is a synopsis of the Commission's Report and Order in MM Docket No. 00-8, adopted March 22, 2000, and released March 31, 2000. The full text of this decision is available for inspection and copying during normal business hours in the FCC's Reference Information Center at Portals II, CY-A257, 445 12th Street, SW, Washington, DC. The complete text of this decision may also be purchased from the Commission's copy contractor, International Transcription Service, Inc., (202) 857-3800, 1231 20th Street, NW, Washington, DC 20036.

List of Subjects in 47 CFR Part 73

Radio broadcasting.

Part 73 of Title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Massachusetts, is amended by removing Spencer and Channel 255A.

3. Section 73.202(b), the Table of FM Allotments under Massachusetts, is amended by adding Webster and Channel 255A.

Federal Communications Commission.
John A. Karousos,
Chief, Allocations Branch, Policy and Rules Division, Mass Media Bureau.

[FR Doc. 00-9615 Filed 4-17-00; 8:45 am]

BILLING CODE 6712-01-P